DEPARTMENT OF DEFENSE

Department of the Army, Corps of Engineers

Notice of Availability for the Draft Environmental Impact Statement/Environmental Impact Report for Proposed Berths 302-306 American President Lines (APL) Container Terminal Project, Port of Los Angeles, Los Angeles County, CA

AGENCY: Department of the Army—U.S. Army Corps of Engineers, DoD.

ACTION: Notice of availability.

SUMMARY: The U.S. Army Corps of Engineers, Los Angeles District Regulatory Division (Corps), in coordination with the Los Angeles Harbor Department/Port of Los Angeles, has completed a Draft Environmental Impact Statement/Environmental Impact Report (EIS/EIR) for the Berths 302-306 American Presidents Line (APL) Container Terminal Project. This Notice serves as the Public Notice/Notice of Availability for the Draft EIS/EIR for the project.

Berths 302-305 are currently operational and encompass approximately 291 acres of land and water including 12 container cranes, a 4,000-foot-long wharf, utility infrastructure, truck gates, intermodal rail, and terminal buildings to support operations. The Project would result in an additional 12 container cranes distributed among Berths 302-306 with eight new cranes proposed at Berth 306, a new 1,250-foot-long wharf at Berth 306, and development of 41 acres of backlands for container storage and distribution, including installation of utility infrastructure to support future automation at Berth 306 and the 41 acre backland. The Project would result in an approximately 347-acre marine container terminal, and would include the following construction and operational elements: dredging, wharf construction, additional container cranes; expanded container yard and associated structures and utilities; modification of truck gates, associated structures, and roadwork.

The Port of Los Angeles (Port) requires authorization pursuant to Section 10 of the Rivers and Harbors Act, and Section 103 of the Marine Protection, Research, and Sanctuaries Act, to implement regulated activities in and over waters of the U.S. associated with expanding the existing APL container terminal. The Corps and the Port as the state lead agency have agreed to jointly prepare an EIS/EIR in order to optimize efficiency and avoid duplication. The EIS/EIR is intended to be sufficient in scope to address federal, state, and local requirements and environmental issues concerning the proposed activities and permit approvals. The following proposed activities require authorization from the Corps: (1) Construction of a new 1,250-foot-long concrete pile supported wharf at Berth 306 which is immediately adjacent to the existing 4,000-foot-long wharf at Berths 302-305, (2) installation of 12 new gantry cranes between Berths 302-306 with at least eight (8) new cranes at Berth 306 associated with development and operation of the 41-acre backlands at Berth 306, (3) dredging of approximately 20,000 cubic yards (cy) of sediment from Berth 306 to increase the depth to −55 feet mean lower low water (MLLW) plus an additional two feet of overdepth dredging to −57 feet MLLW, (4) disposal of dredged material in Berth 243-245 confined disposal facility (CDF), the Cabrillo Shallow Water Habitat Area, or at LA-2 (unconfined ocean disposal).

FOR FURTHER INFORMATION CONTACT: Copies of the Corps Public Notice are available at: http://www.spl.usace.army.mil/regulatory/. Copies of the EIS/EIR are available at http://www.portoflosangeles.org, and at the following locations:

• Port of Los Angeles Administration Building

• Los Angeles City Library, San Pedro Branch

• Los Angeles City Library, Wilmington Branch

• Los Angeles Public Library, Central Branch

Questions or requests concerning the Draft EIS/EIR should be directed to: Theresa Stevens, Ph.D., U.S. Army Corps of Engineers, Los Angeles District-Regulatory Division, North Coast Branch 2151 Alessandro Drive, Suite 110, Ventura, California 93001, (805) 585-2146 or via email to theresa.stevens@usace.army.mil.

Public Hearing and Comment Period:

The U.S. Army Corps of Engineers and the Port of Los Angeles will jointly hold a public hearing to receive public comments and to assess pubic concerns regarding the Draft EIS/EIR and project on January 19, 2012, starting at 6 p.m. (doors open at 5:30 p.m.) in the Board Room of the Harbor Administration Building, located at 425 S. Palos Verdes Street, San Pedro, CA 90731. Written comments will be accepted until the close of the 45-day public review on February 17, 2012.

SUPPLEMENTARY INFORMATION: None.

Aaron O. Allen,
Chief, North Coast Branch, Regulatory Division.

[FR Doc. 2011-32955 Filed 12-22-11; 8:45 a.m.]

BILLING CODE 3720-58-P